Proclamation 10820 of September 27, 2024

National Public Lands Day, 2024

By the President of the United States of America

A Proclamation

America's natural wonders are our Nation's heart and soul. Our public lands protect many of these treasures and ensure that generations can enjoy their splendor—from our national parks and monuments to our forests and wildlife refuges. On National Public Lands Day, we honor these irreplaceable lands and waters and recommit to working together to preserve them.

Whether it is the soaring cliffs of Yosemite National Park, the striking geysers of Yellowstone National Park, or the lush hills of the Appalachians in the Monongahela National Forest—our Nation's public lands inspire and unite us through the ages. They hold pieces of our country's history, etched into our lands and waters. Some public lands are considered sacred by Tribal Nations, which have stewarded them since time immemorial. And these lands and waters also carry so much promise: helping protect us against climate change, providing the clean air we breathe and clean water we drink, and sustaining the livelihoods of ranchers, outfitters, guides, and rural and Indigenous communities.

Since the beginning of my Administration, I have taken historic steps to conserve our natural treasures for future generations. That began when I signed an Executive Order that established the most ambitious conservation goal in the history of our country—committing to conserve at least 30 percent of our Nation's lands and waters by 2030. To that end, my “America the Beautiful” initiative is supporting voluntary, locally led conservation and restoration efforts across the country. I also signed an Executive Order to safeguard and steward our Nation's forests and enlist nature to help address the climate crisis, including through the development of the first National Nature Assessment.

Since I came into office, my Administration has conserved more than 42 million acres of our Nation's lands and waters. I established and expanded eight national monuments—including the stunning Avi Kwa Ame National Monument in Nevada, thought to be one of the most sacred places on Earth by some Tribal Nations. I restored protections for lands and waters across the country that had been rolled back by the previous administration—including the desert buttes of the Bears Ears National Monument and the Grand Staircase-Escalante National Monument, the stunning Tongass National Forest, and the underwater canyons of the Northeast Canyons and Seamounts Marine National Monument.

To protect our waters, I took executive action to direct consideration of more than 700,000 square miles of the Pacific Ocean southwest of Hawaii as a new National Marine Sanctuary—which could make this one of the largest protected marine areas on the planet. And I protected the United States Arctic Ocean from new oil and gas leasing. My Administration is also advancing the proposed Chumash Heritage National Marine Sanctuary, which stretches along 116 miles of California coastline.

My Administration has also made historic investments to preserve our Nation's ecosystems and safeguard our communities against the impact of climate change. Our Inflation Reduction Act made the largest investment in history to confront the climate crisis, and together with our Bipartisan Infrastructure Law, these investments will help support conservation and restoration, including $50 billion dedicated to strengthening community and ecosystem resilience to climate change. We have also worked to promote equitable access to outdoor recreation opportunities on public lands and waters through the “America the Beautiful” initiative, launching the Federal Interagency Council on Outdoor Recreation to address common challenges and opportunities in expanding outdoor recreation activities and access to the great outdoors.

I also launched the American Climate Corps to mobilize a new, diverse generation of Americans—putting them to work conserving and restoring our lands and waters, bolstering community resilience, deploying clean energy, implementing energy efficient technologies, and advancing environmental justice. And, upon completing this program, we are working to ensure they have a pathway to getting high-quality, good-paying clean energy and climate resilience jobs in the public and private sectors.

Our Nation's public lands have always been and will always be central to our country's heritage and essential to our identity. On National Public Lands Day, I encourage every American to enjoy the wonder of our public lands. All of our country's national parks, forests, refuges, and grasslands will have a “Fee-Free Day” on September 28—anyone can visit them free of charge. There are several more fee-free days throughout the year, the last of which will occur on Veterans Day, November 11. Whether you go for the incredible vistas, the lush forests, or the rolling grasslands, our public lands will never fail to inspire awe and connect us to something bigger than ourselves.

NOW, THEREFORE, I, JOSEPH R. BIDEN JR., President of the United States of America, by virtue of the authority vested in me by the Constitution and laws of the United States, do hereby proclaim September 28, 2024, as National Public Lands Day. I invite all Americans to join me in a day of service for our public lands. I also encourage volunteers from across the Nation to celebrate and care for our lands and waters by reforesting the land, maintaining trails, nurturing ecosystems, removing invasive species, and doing other conservation work to serve the lands and waters that support and sustain us.

IN WITNESS WHEREOF, I have hereunto set my hand this twenty-seventh day of September, in the year of our Lord two thousand twenty-four, and of the Independence of the United States of America the two hundred and forty-ninth.

[FR Doc. 2024-22946

Filed 10-1-24; 11:15 am]

Billing code 3395-F4-P